DEPARTMENT OF THE INTERIOR

Fish and Wildlife Service

50 CFR Part 17

[Docket No. FWS-R2-ES-2013-0056; FXES11130900000C2-134-FF09E32000]

RIN 1018-AY46

Endangered and Threatened Wildlife and Plants; Proposed Revision to the Regulations for the Nonessential Experimental Population of the Mexican Wolf

AGENCY: Fish and Wildlife Service, Interior.

ACTION: Proposed rule; availability of a final environmental impact statement and a draft record of decision.

SUMMARY: We, the U.S. Fish and Wildlife Service (Service), make available the final environmental impact statement (EIS) on the proposed revisions to the regulations for the nonessential experimental population designation of the Mexican wolf and our draft record of decision (ROD), under the National Environmental Policy Act of 1969, as amended. Our intended action is to revise the regulations established in our 1998 Final Rule for the nonessential experimental population of the Mexican wolf. We also propose to extend the authority of the Mexican Wolf Recovery Program's section 10(a)(1)(A) research and recovery permit to areas that are outside of the Mexican Wolf Experimental Population Area. In the EIS we analyzed the environmental consequences of a range of alternatives, including the Proposed Action and No Action alternative, for our proposed rule. The action would be implemented through a final rule, a revised section 10(a)(1)(A) research and recovery permit, and the provision of Federal funding.

DATES: We will consider comments received on or before December 27, 2014. Comments submitted electronically using the Federal eRulemaking Portal (see ADDRESSES) must be received by 11:59 p.m. Eastern Time on the closing date. We will issue a final ROD no sooner than December 27, 2014.

ADDRESSES: Document availability: The final EIS and draft ROD are available electronically on http://www.regulations.gov in Docket No. FWS-R2-ES-2013-0056, on the Mexican Wolf Recovery Program's Web site at http://www.fws.gov/southwest/es/mexicanwolf/, or from the office listed in FOR FURTHER INFORMATION CONTACT.

Document submission: You may submit written comments on the final EIS and draft ROD by one of the following methods:

(1) Electronically: Go to the Federal eRulemaking Portal: http://www.regulations.gov. Search for FWS-R2-ES-2013-0056, which is the docket number for this rulemaking. You may submit a comment by clicking on “Comment Now!”. Please ensure that you have found the correct rulemaking before submitting your comment.

(2) By hard copy: Submit by U.S. mail or hand delivery to: Public Comments Processing, Attn: FWS-R2-ES-2013-0056; Division of Policy and Directives Management; U.S. Fish and Wildlife Service Headquarters, MS: BPHC, 5275 Leesburg Pike, Falls Church, VA 22041-3803.

We request that you send comments on the final EIS and draft ROD only by the methods described above. We will post all comments on http://www.regulations.gov. This generally means that we will post any personal information you provide us (see the Public Comments section below for more information). To increase our efficiency in downloading comments, groups providing mass submissions should submit their comments in an Excel file.

FOR FURTHER INFORMATION CONTACT: Sherry Barrett, Mexican Wolf Recovery Coordinator, U.S. Fish and Wildlife Service, New Mexico Ecological Services Field Office, 2105 Osuna Road, NE., Albuquerque, NM 87113; by telephone 505-761-4704; or by facsimile 505-346-2542. If you use a telecommunications device for the deaf (TDD), call the Federal Information Relay Service (FIRS) at 800-877-8339. Further contact information can be found on the Mexican Wolf Recovery Program's Web site at http://www.fws.gov/southwest/es/mexicanwolf/.

SUPPLEMENTARY INFORMATION: With this Federal Register document, we announce the availability of the final EIS and our draft ROD for the Proposed Revision to the Regulations for the Nonessential Experimental Population of the Mexican Wolf (Canis lupus baileyi). We developed the final EIS and our draft ROD in compliance with the agency decision making requirements of the National Environmental Policy Act of 1969, as amended.

We have described all alternatives in detail, and we have evaluated them in our final EIS. Our draft decision is based on our review of the alternatives and their environmental consequences as described in our final EIS.

Reviewing Documents

You may obtain a copy of the final EIS and draft ROD by going to the Mexican Wolf Recovery Program Web site at http://www.fws.gov/southwest/es/mexicanwolf/. Alternatively, you may obtain a compact disk with an electronic copy of the final EIS by writing to Ms. Sherry Barrett, Mexican Wolf Recovery Coordinator (see FOR FURTHER INFORMATION CONTACT). The final EIS and draft ROD will also be available for public inspection, by appointment, during normal business hours (8 a.m. to 4:30 p.m.) at the New Mexico Ecological Services Field Office, 2105 Osuna Road NE., Albuquerque, NM 87113. In cooperation with the U.S. Department of Agriculture, Forest Service, Southwest Region, we have also established information repositories at the Supervisor Offices for the National Forests throughout Arizona and New Mexico. Links to the National Forests with the addresses of the supervisor offices are available at http://www.fs.usda.gov/r3.

Background

On June 13, 2013 (78 FR 35719), we published a proposed rule to revise the existing nonessential experimental population designation of the Mexican wolf. That proposal had a 90-day comment period ending September 11, 2013. On August 5, 2013 (78 FR 47268), we published a notice of intent to prepare an environmental impact statement in conjunction with the proposed rule to revise the existing nonessential experimental population designation of the Mexican wolf. That notice of intent to prepare an environmental impact statement had a 45-day comment period ending September 19, 2013. On September 5, 2013 (78 FR 54613), we extended the public comment period on the proposed rule to revise the existing nonessential experimental population designation of the Mexican wolf to end on October 28, 2013, and announced a public hearing. On October 28, 2013 (78 FR 64192), we once again extended the public comment period on the proposed rule to revise the existing nonessential experimental population designation of the Mexican wolf to end on December 17, 2013, and announced public hearings on the proposed rule to revise the existing nonessential experimental population designation of the Mexican wolf.

On July 25, 2014 (79 FR 43358), we published a revised proposed rule to the existing nonessential experimental population designation of the Mexican wolf and announced the availability of a draft environmental impact statement, the reopening of the public comment period, and the holding of public hearings. That proposal had a 60-day comment period ending September 23, 2014. We developed our final EIS after assessing and considering all comments both individually and collectively. Our response to the substantive comments that we received are provided as an appendix to the final EIS.

Public Comments

You may submit your comments and materials concerning the final EIS and the draft ROD by one of the methods listed in ADDRESSES. If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as some of the supporting documentation we used, will be available for public inspection on http://www.regulations.gov at Docket No. FWS-R2-ES-2013-0056, or by appointment, during normal business hours, at the U.S. Fish and Wildlife Service, New Mexico Ecological Services Field Office (see FOR FURTHER INFORMATION CONTACT).

Authors

The primary authors of this notice are the staff members of the New Mexico Ecological Services Field Office (see FOR FURTHER INFORMATION CONTACT).

Authority

The authority for this action is the Endangered Species Act of 1973 (16 U.S.C. 1531 et seq.) and the National Environmental Policy Act of 1969 (42 U.S.C. 4321 et seq.).

Dated: October 31, 2014.
Joy E. Nicholopoulos,
Assistant Secretary for Fish and Wildlife and Parks.

[FR Doc. 2014-27872 Filed 11-24-14; 8:45 am]

BILLING CODE 4310-55-P